DEPARTMENT OF TRANSPORTATION

Federal Aviation Administration

14 CFR Part 39

[Docket No. FAA-2022-1235; Project Identifier MCAI-2022-00475-T; Amendment 39-22273; AD 2022-25-17]

RIN 2120-AA64

Airworthiness Directives; AIRBUS

AGENCY: Federal Aviation Administration (FAA), DOT.

ACTION: Final rule.

SUMMARY: The FAA is superseding Airworthiness Directive (AD) 2022-07-10, which applied to all Airbus SAS Model A350-941 and -1041 airplanes. AD 2022-07-10 required revising the operator's existing FAA-approved minimum equipment list (MEL) to include dispatch restrictions. AD 2022-07-10 allowed operators to inspect affected parts for discrepancies, and do applicable replacements, in order to terminate the revision of the operator's existing MEL. AD 2022-07-10 also prohibited the installation of affected parts. This AD was prompted by a determination that the optional inspection and applicable replacements should be required. This AD continues to require the actions in AD 2022-07-10, and mandates the inspection of affected parts and applicable replacements, as specified in a European Union Aviation Safety Agency (EASA) AD, which was incorporated by reference. The FAA is issuing this AD to address the unsafe condition on these products.

DATES: This AD is effective January 13, 2023.

The Director of the Federal Register approved the incorporation by reference of certain publications listed in this AD as of April 20, 2022 (87 FR 19622, April 5, 2022).

ADDRESSES:

AD Docket: You may examine the AD docket at regulations.gov under Docket No. FAA-2022-1235; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA AD 2022-0031, dated February 25, 2022, contact EASA, Konrad-Adenauer-Ufer 3, 50668 Cologne, Germany; telephone +49 221 8999 000; email ADs@easa.europa.eu; website easa.europa.eu. You may find this material on the EASA website at ad.easa.europa.eu.

• For Kidde Aerospace & Defense service information, contact Kidde Aerospace & Defense, 4200 Airport Drive NW, Building B, Wilson, NC 27896; telephone 319-295-5000; website kiddetechnologies.com/aviation.com.

• You may view this material at the FAA, Airworthiness Products Section, Operational Safety Branch, 2200 South 216th St., Des Moines, WA. For information on the availability of this material at the FAA, call 206-231-3195. It is also available in the AD docket at regulations.gov under Docket No. FAA-2022-1235.

FOR FURTHER INFORMATION CONTACT: Dat Le, Aerospace Engineer, Large Aircraft Section, FAA, International Validation Branch, 2200 South 216th St., Des Moines, WA 98198; telephone 516-228-7317; email dat.v.le@faa.gov.

SUPPLEMENTARY INFORMATION:

Background

The FAA issued a notice of proposed rulemaking (NPRM) to amend 14 CFR part 39 to supersede AD 2022-07-10, Amendment 39-21998 (87 FR 19622, April 5, 2022) (AD 2022-07-10). AD 2022-07-10 applied to all Airbus SAS Model A350-941 and -1041 airplanes. AD 2022-07-10 required revising the operator's existing FAA-approved MEL to include dispatch restrictions. AD 2022-07-10 allowed operators to inspect affected parts for discrepancies, and do applicable replacements, in order to terminate the revision of the operator's existing MEL. AD 2022-07-10 also prohibited the installation of affected parts. The FAA issued AD 2022-07-10 to address undetected thermal bleed leak events that might not be isolated during flight, possibly resulting in localized areas of the wing structure being exposed to high temperatures and consequent reduced structural integrity of the airplane.

The NPRM published in the Federal Register on September 27, 2022 (87 FR 58460). The NPRM was prompted by AD 2022-0031, dated February 25, 2022, issued by EASA, which is the Technical Agent for the Member States of the European Union (EASA AD 2022-0031) (referred to after this as the MCAI). The MCAI states that certain overheat detection system sensing (OHDS) elements may not properly detect thermal bleed leak events due to a quality escape during the manufacturing process. This condition, if not addressed, could lead to undetected thermal bleed leak events that might not be isolated during flight, possibly resulting in localized areas of the wing structure being exposed to high temperatures and consequent reduced structural integrity of the airplane.

In the NPRM, the FAA proposed to continue to require the actions in AD 2022-07-10, and mandate the inspection of affected parts and applicable replacements, as specified in EASA AD 2022-0031. The NPRM also proposed to prohibit the installation of affected parts.

You may examine the MCAI in the AD docket at regulations.gov under Docket No. FAA-2022-1235.

Discussion of Final Airworthiness Directive

Comments

The FAA received comments from the Air Line Pilots Association, International (ALPA) and two individual commenters who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. This AD is adopted as proposed in the NPRM.

Related Service Information Under 1 CFR Part 51

This AD requires EASA AD 2022-0031, which the Director of the Federal Register approved for incorporation by reference as of April 20, 2022 (87 FR 19622, April 5, 2022).

This AD also requires Kidde Aerospace & Defense Service Bulletin CFD-26-3, dated January 13, 2022, which the Director of the Federal Register approved for incorporation by reference as of April 20, 2022 (87 FR 19622, April 5, 2022).

This material is reasonably available because the interested parties have access to it through their normal course of business or by the means identified in ADDRESSES.

Costs of Compliance

The FAA estimates that this AD affects 29 airplanes of U.S. registry. The FAA estimates the following costs to comply with this AD:

Estimated Costs for Required Actions
Action | Labor cost | Parts cost | Cost per product | Cost on U.S. operators
Retained actions from AD 2022-07-10 | 1 work-hour × $85 per hour = $85 | $0 | $85 | $2,465
New actions | 13 work-hours × $85 per hour = $1,105 | 0 | 1,105 | 32,045

The FAA estimates the following costs to do any necessary on-condition action that would be required based on the results of any optional actions. The FAA has no way of determining the number of aircraft that might need this on-condition action:

Estimated Costs of On-Condition Actions
Labor cost | Parts cost | Cost per product
1 work-hour × $85 per hour = $85 | $795 | $880

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-07-10, Amendment 39-21998 (87 FR 19622, April 5, 2022); and

b. Adding the following new airworthiness directive:

2022-25-17 Airbus SAS: Amendment 39-22273; Docket No. FAA-2022-1235; Project Identifier MCAI-2022-00475-T.

(a) Effective Date

This airworthiness directive (AD) is effective January 13, 2023.

(b) Affected ADs

This AD replaces AD 2022-07-10, Amendment 39-21998 (87 FR 19622, April 5, 2022) (AD 2022-07-10).

(c) Applicability

This AD applies to all Airbus SAS Model A350-941 and -1041 airplanes, certificated in any category.

(d) Subject

Air Transport Association (ATA) of America Code 36, Pneumatic.

(e) Unsafe Condition

This AD was prompted by a report that certain overheat detection system (OHDS) sensing elements may not properly detect thermal bleed leak events due to a quality escape during the manufacturing process, and by a determination that an optional inspection and applicable replacements should be required. The FAA is issuing this AD to address undetected thermal bleed leak events that might not be isolated during flight, possibly resulting in localized areas of the wing structure being exposed to high temperatures and consequent reduced structural integrity of the airplane.

(f) Compliance

Comply with this AD within the compliance times specified, unless already done.

(g) Requirements

Except as specified in paragraph (h) of this AD: Comply with all required actions and compliance times specified in, and in accordance with, European Union Aviation Safety Agency (EASA) AD 2022-0031, dated February 25, 2022 (EASA AD 2022-0031).

(h) Exceptions to EASA AD 2022-0031

(1) Where paragraphs (1) and (4) of EASA AD 2022-0031 refer to its effective date, this AD requires using April 20, 2022 (the effective date of AD 2022-07-10).

(2) Where paragraph (2) of EASA AD 2022-0031 refers to its effective date, this AD requires using the effective date of this AD.

(3) Where EASA AD 2022-0031 has a definition for “Affected part” and refers to “the VSB [vendor service bulletin]” for the part numbers and date codes, for this AD, use Kidde Aerospace & Defense Service Bulletin CFD-26-3, dated January 13, 2022, as “the VSB” for the part numbers and date codes.

(4) Where EASA AD 2022-0031 has a definition for “Groups” and identifies certain airplanes as Group 2 airplanes, replace the text, “An aeroplane having an MSN [manufacturer serial number] not listed in the Section 1.A of the SB is Group 2, provided it is determined that no affected part has been installed on any affected position of that aeroplane since Airbus date of manufacture” with “An aeroplane having an MSN not listed in the Section 1.A of Airbus Service Bulletin A350-36-P032, dated December 3, 2021, is Group 2, provided it is determined that no affected part has been installed on any affected position of that aeroplane since Airbus date of manufacture.”

(5) Where paragraph (1) of EASA AD 2022-0031 specifies to “inform all flight crews, and, thereafter, operate the aeroplane accordingly,” this AD does not require those actions as those actions are already required by existing FAA operating regulations (see 14 CFR 121.628(a)(2) and 14 CFR 121.628(a)(5)).

(6) Where paragraph (3) of EASA AD 2022-0031 specifies action if “any discrepancy as defined in the SB is detected,” for this AD a discrepancy is when the related electronic centralized aircraft monitoring (ECAM) warning is not displayed after a heat gun test is done.

(7) This AD does not adopt the “Remarks” section of EASA AD 2022-0031.

(i) No Reporting Requirement and No Return of Parts

(1) Although the service information referenced in EASA AD 2022-0031 specifies to submit certain information to the manufacturer, this AD does not include that requirement.

(2) Although the service information referenced in EASA AD 2022-0031 specifies to return certain parts to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraphs (i) and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Dat Le, Aerospace Engineer, FAA, International Validation Branch, 2200 South 216th St., Des Moines, WA 98198; telephone 516-228-7317; email dat.v.le@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 20, 2022 (87 FR 19622, April 5, 2022).

(i) European Union Aviation Safety Agency (EASA) AD 2022-0031, dated February 25, 2022.

(ii) Kidde Aerospace & Defense Service Bulletin CFD-26-3, dated January 13, 2022.

(4) For EASA AD 2022-0031, contact EASA, Konrad-Adenauer-Ufer 3, 50668 Cologne, Germany; telephone +49 221 8999 000; email ADs@easa.europa.eu; website easa.europa.eu. You may find this EASA AD on the EASA website at ad.easa.europa.eu.

(5) For Kidde Aerospace & Defense service information, contact Kidde Aerospace & Defense, 4200 Airport Drive NW, Building B, Wilson, NC 27896; telephone 319-295-5000; website kiddetechnologies.com/aviation.com.

(6) You may view this service information at FAA, Airworthiness Products Section, Operational Safety Branch, 2200 South 216th St., Des Moines, WA. For information on the availability of this material at the FAA, call 206-231-3195.

(7) You may view this material that is incorporated by reference at the National Archives and Records Administration (NARA). For information on the availability of this material at NARA, email fr.inspection@nara.gov, or go to: www.archives.gov/federal-register/cfr/ibr-locations.html.

Issued on December 1, 2022.
Christina Underwood,
Acting Director, Compliance & Airworthiness Division, Aircraft Certification Service.

[FR Doc. 2022-26598 Filed 12-8-22; 8:45 am]

BILLING CODE 4910-13-P